DEPARTMENT OF AGRICULTURE

Food and Nutrition Service

Agency Information Collection Activities: Food Distribution Program on Indian Reservations Participant Characteristics and Program Operations Study

AGENCY: Food and Nutrition Service (FNS), United States Department of Agriculture (USDA).

ACTION: Notice and request for comments.

SUMMARY: In accordance with the Paperwork Reduction Act of 1995, this notice invites the general public and other public agencies to comment on this proposed information collection. This is a new information collection request in which FNS seeks updated information about the Food Distribution Program on Indian Reservations (FDPIR), including participant characteristics, program operations, and why FDPIR participation has been declining. This study will also include an evaluation of the self-determination demonstration projects (SDDPs), which allow Tribes administering FDPIR to directly purchase food for the FDPIR food packages distributed to their Tribe.

DATES: Written comments must be received on or before December 24, 2024.

ADDRESSES: Comments may be sent to Kavitha Sankavaram, Office of Policy Support, Food and Nutrition Service, U.S. Department of Agriculture 1320 Braddock Place, Alexandria, VA 22314. Comments may also be submitted via email to kavitha.sankavaram@usda.gov. Comments will also be accepted through the Federal eRulemaking Portal. Go to https://www.regulations.gov and follow the online instructions for submitting comments electronically.

All responses to this notice will be summarized and included in the request for Office of Management and Budget approval. All comments will be a matter of public record.

FOR FURTHER INFORMATION CONTACT: Requests for additional information or copies of this information collection should be directed to Kavitha Sankavaram at 703-605-4627.

SUPPLEMENTARY INFORMATION: The 2018 Farm Bill authorized USDA to establish a demonstration project for one or more Tribal organizations administering FDPIR to enter into self-determination contracts, as defined in section 4 of the Indian Self-Determination and Education Assistance Act, to purchase USDA Foods for the FDPIR food package for their Tribes. The goals of the demonstration project include (1) supporting Tribal self-governance by allowing participating Tribes to purchase similar foods of their choosing, supporting tribal dietary preferences; (2) enabling Tribes to purchase foods through commercial vendors of their choice; (3) supporting Tribal economies as Tribes may choose to contract with local, regional, and/or Tribal vendors; and (4) providing FNS with an opportunity to see how Tribal procurement may work under a food distribution program model across Region, program size, and food selection. To date, FNS has awarded $11.4 million to 16 sites. Through this information collection, FNS aims to understand the impact, successes, and challenges of the demonstration projects to inform future policy goals.

Comments are invited on (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Food Distribution Program on Indian Reservations (FDPIR) Participant Characteristics and Program Operations (PCPO) and Self-Determination Demonstration Project (SDDP) Evaluation.

Form Number: Not applicable.

OMB Number: 0584-NEW.

Expiration date: Not yet determined.

Type of request: New collection of information.

Abstract: Administered by the U.S. Department of Agriculture's (USDA) Food and Nutrition Service (FNS), the Food Distribution Program on Indian Reservations (FDPIR) provides USDA Foods to income-eligible households living on Indian reservations and to American Indian households residing in approved areas near reservations in Oklahoma. Many households participate in FDPIR as an alternative to the Supplemental Nutrition Assistance Program (SNAP) because they do not have easy access to SNAP offices or authorized food stores. The last comprehensive study of FDPIR participant characteristics and program operations (PCPO) used data collected in 2013 and 2014. This study will provide current, nationally representative information on FDPIR participants and local program operations across the nation. The study will also provide FNS with a better understanding of the reasons for the decline in FDPIR participation and how to streamline and target food/nutrition education efforts, funding, and policy changes. To identify reasons for variable participation, FNS will collect information on perceptions about the program, potential access barriers, and participation in SNAP and other food assistance programs. The study also includes an evaluation of the Self-Determination Demonstration Project (SDDP). The SDDP, authorized in the 2018 Farm Bill, provides FDPIR sites with the flexibility to procure and distribute local, regional, and/or Tribal foods. This study is needed to help FNS make decisions about program administration and identify ways to make the program more beneficial to participants.

The study will be conducted over a 3-year period. For the PCPO component of the study, data collection activities will include administrative data submissions, a participant survey, discussion groups with participants and eligible nonparticipants, and site visits to 26 FDPIR programs. Site visits will consist of focus groups with FDPIR participants and eligible nonparticipants; key informant interviews with FDPIR program staff, community partners, and Tribal leaders; and observations of program facilities. Using the administrative data collected from the 26 FDPIR programs, the study team will select a random nationally representative sample of 1,050 participating households. This sample of participating households will be the basis of recruitment for the participant survey. For the SDDP component of the study, data collection activities will include administrative data submissions, key informant interviews with FDPIR program staff and vendors, and interviews with a convenience sample of FDPIR participants at the 16 SDDP sites. Clearance is requested for the following new data collection activities: administrative data collection, survey of FDPIR participants, key informant interviews, onsite observations of FDPIR program operations, FDPIR participants and eligible nonparticipant discussion groups, and FDPIR participant interviews.

Affected public: (1) State, local, and Tribal agencies; (2) businesses; and (3) individuals. Identified respondent groups include the following:

1. State, local, and Tribal agencies: FDPIR agency staff from 38 Tribal agencies (22 PCPO-only sites, 12 SDDP-only sites, and 4 sites participating in both the PCPO and SDDP components).

2. Businesses: nonprofit businesses—staff from community-based organizations at the 26 PCPO sites—and for-profit businesses—food vendor staff at the 16 SDDP sites.

3. Individuals: 1,050 FDPIR participants and eligible nonparticipants who will be recruited for the PCPO participant survey and 316 who will be recruited for participation in discussion groups across the 26 PCPO sites. For the SDDP component, 400 FDPIR participants across the 16 SDDP sites will be recruited to complete an interview.

Estimated number of respondents: The total estimated number of respondents is 2,068: 182 State, local, and Tribal government staff; 69 business (for-profit and not-for-profit) staff; and 1,817 individuals. Of the 2,068 contacted, 1,728 are estimated to be responsive, and 340 are estimated to be nonresponsive. The breakout follows:

1. State, local, and Tribal agency staff: Of the 182 FDPIR Tribal staff contacted, 168 are estimated to be responsive, and 14 will be nonresponsive. For the PCPO component, 145 Tribal staff will be contacted, and 131 are estimated to be responsive and 14 will be nonresponsive. For the SDDP component, 37 Tribal staff will be contacted, and all are estimated to be responsive.

2. Business (for-profit and not-for-profit) staff: Of the 53 non-profit business staff contacted, all are estimated to be responsive. Of the 16 for-profit business staff contacted, all are estimated to be responsive.

3. Individuals: Of the 1,817 individuals contacted, 1,491 are estimated to be responsive, and 326 will be nonresponsive.

• For the PCPO study, 1,050 FDPIR participants will be contacted to complete the PCPO survey, and 871 will complete the survey and receive a thank-you email; 179 will be nonresponsive. A total of 316 participants will be recruited for the PCPO discussion groups; 252 will participate in the discussion, and 64 will be nonresponsive.

• Twenty-six Tribal leaders at FDPIR sites will be asked to participate in a key informant interview; 23 will participate in the interview, and 3 will be nonresponsive.

• For the SDDP study, 400 participants will be contacted to complete the SDDP interview, and 320 will complete the interview and receive a thank-you email; 80 will be nonresponsive.

Estimated number of responses per respondent: 3.375—based on 6,979 total annual responses (6,460 responsive and 519 nonresponsive) made by the 2,068 respondents (1,728 responsive and 340 nonresponsive). See table 1 for the estimated number of responses per respondent for each type of respondent. The breakout follows:

1. State, local, and Tribal agencies (182):

• Twenty-nine FDPIR directors will receive recruitment emails from FNS; 26 will be responsive, and 3 will be nonresponsive. Twenty-six FDPIR directors will receive an introductory email from the study team, participate in a phone call to discuss the data request, and facilitate the execution of a data use agreement. They will also receive materials from the study team about key informant interview scheduling and participate in the PCPO key informant interviews. Sixteen FDPIR directors will respond to scheduling and participate in the SDDP interviews; the same 16 FDPIR directors will also participate in a phone call to discuss the SDDP data request, and facilitate the execution of a data use agreement.

• Seventeen FDPIR directors will complete the electronic PCPO administrative data submission. One FDPIR director will pretest the PCPO administrative data request. Sixteen FDPIR directors will complete the SDDP administrative data submission; one of these 16 directors will pretest the SDDP administrative data request.

• Fifty-two FDPIR frontline staff will receive recruitment information, and 45 will respond to scheduling and participate in the PCPO key informant interviews; 7 will be nonresponsive. Twenty-six frontline staff will also participate in the observation. Sixteen frontline staff will respond to scheduling and participate in the SDDP interviews. One frontline staff member will pretest the key informant interview protocol. One frontline staff member will pretest the observation guide.

• Twenty-six distribution staff will receive recruitment information, and 24 will respond to scheduling and participate in the observation; 2 will be nonresponsive. One distribution staff member will pretest the observation guide.

• Twenty-six warehouse staff will receive recruitment information, and 24 will respond to scheduling and participate in the observation; 2 will be nonresponsive.

• Nine administrative staff will provide onsite support for the administrative data abstraction.

• Five SDDP coordinators will receive recruitment information and will respond to scheduling and participate in the SDDP interviews.

2. Business (for-profit and not-for-profit) vendor and community organization staff (69):

• Sixteen food vendor staff will respond to scheduling and participate in the SDDP interviews.

• Fifty-two community organization staff will respond to scheduling and participate in the PCPO key informant interviews. One community organization staff member will pretest the key informant interview guide.

3. Individuals (1,817):

• A total of 1,050 individuals will be recruited, and 871 will complete the PCPO participant survey. A total of 316 individuals will be recruited, and 252 will participate in the PCPO focus groups. A total of 400 individuals will be recruited, and 320 will complete the SDDP participant survey.

• Twenty-six Tribal leaders will receive scheduling information, and 23 will respond to scheduling and participate in the PCPO key informant interviews. One Tribal leader will pretest the key informant interview guide.

• Nine individuals will be recruited and pretest the SDDP participant survey. Nine individuals will be recruited and pretest the PCPO participant survey. Six individuals will be recruited and pretest the PCPO discussion group guide.

Estimated total annual responses: 6,979 (6,460 annual responses for responsive participants and 519 annual responses for nonresponsive participants).

Estimated time per response: 0.304 hours (0.33 hours for responsive participants and 0.02 hours for nonresponsive participants). Among respondents, the estimated time of response varies from 0.03 hours to 2.00 hours depending on the respondent group and activity, as table 1 shows.

Estimated total annual burden on respondents and nonrespondents: 2,124.09 hours (2,116.85 hours for responsive participants and 9.55 hours for nonresponsive participants). See table 1 for the estimated total annual burden for each type of respondent.

BILLING CODE 3410-30-P

Tameka Owens,
Acting Administrator and Assistant Administrator, Food and Nutrition Service.

[FR Doc. 2024-24868 Filed 10-24-24; 8:45 am]

BILLING CODE 3410-30-C